DEPARTMENT OF AGRICULTURE

Forest Service

Revised Land and Resource Management Plan for the White Mountain National Forest; Carroll, Coos, and Grafton Counties, New Hampshire and Oxford County, Maine

AGENCY: Forest Service, USDA.

ACTION: Notice of extension of public comment period on notice of intent for fourteen days.

SUMMARY: The Forest Service published a White Mountain National Forest Land and Resource Management Plan in the Federal Register on March 9, 2000 (Vol. 65, No. 47, FR 12505, Mar. 9, 2000). The Forest Service is extending the public comment period on that notice of Intent. A 14 day extension of the public comment period was given in response to comments from the public requesting additional time to fully analyze the issues and prepare comprehensive comments. The fourteen (14) day extensions starts immediately after the initial public comment period that ends May 9, 2000. The fourteen (14) day extension of the public comment period starts May 10, 2000 and ends May 23, 2000.

Additional information on the Notice of Intent can be found in the notice published in the Federal Register referenced above.

DATES: Comments on the Notice of Intent should be received in writing by May 23, 2000.

ADDRESSES: Send written comments to: Forest Planning, White Mountain National Forest, 719 N. Main St., Laconia, NH 03246. Or direct electronic mail to: mwoodbury@fs.fed.us.

FOR FURTHER INFORMATION CONTACT: Bryan Armel, Forest Planner, at (603) 528-8788. TDD (603) 528-8722. E-mail address: barmel@fs.fed.us.

SUPPLEMENTARY INFORMATION: The responsible official is Robert T. Jacobs, Regional Forester, Eastern Region, 210 W. Wisconsin Avenue, Milwaukee, Wisconsin 53203.

Dated: May 2, 2000.
Donna L. Hepp,
Forest Supervisor, White Mountain National Forest.

[FR Doc. 00-11381 Filed 5-5-00; 8:45 am]

BILLING CODE 3410-11-M